DEPARTMENT OF AGRICULTURE

Forest Service

Chequamegon-Nicolet National Forests, Wisconsin, Lakewood/Laona Plantation Thinning EIS

AGENCY: Forest Service, USDA.

ACTION: Notice of intent to prepare an environmental impact statement.

SUMMARY: The Forest Service will prepare an environmental impact statement on a proposal to thin approximately 10,557 acres (294 stands) of plantations across the Lakewood/Laona Ranger District of the Chequamegon-Nicolet National Forests. Most plantations consist mainly of red pine with some white spruce and lesser amounts of white pine. Limited amounts of other species may also be found in some stands. The purpose of this proposal is to maintain and enhance the growth and vigor of trees within treatment areas while providing commercial timber products. No road reconstruction or new road construction is proposed. All activities would likely occur within six years of the decision date.

DATES: Comments concerning the scope of the analysis must be received within 14 days of the publication of this notice in the Federal Register. The draft environmental impact statement is expected by October 2004 and the final environmental impact statement is expected by March 2005.

ADDRESSES: Send written comments to Joel H. Skjerven, District Ranger, Lakewood/Laona Ranger District, 15085 State Rd 32, Lakewood, Wisconsin 54138, or e-mail your comments to: comments-eastern-chequamegon-nicolet-lakewood@fs.fed.us

FOR FURTHER INFORMATION CONTACT: Paul Sweeney, Project Manager, at the above address, or call (715) 276-6333.

SUPPLEMENTARY INFORMATION: Purpose and Need for Action: The purpose of the proposed action is to maintain stand health and vigor by applying treatments to achieve desired stocking levels while providing a sustained yield of wood products.

This project is designed to promote tree growth and vigor over time by developing a wide range of stands over a large portion of the Forests and to allow for flexibility in applying treatments as needed between 2005 and 2011. Thinning these stands would:

• Provide terrestrial ecosystems in healthy, diverse, and productive conditions (Forest Plan, Goal 1.4, p. 1-3) by preventing insect and disease problems associated with overstocked stands and enhancing diameter growth for strength and protection against wind and snow damage.

• Contribute toward satisfying demand for wood products and special forest products through environmentally responsible harvest on National Forest System lands (Forest Plan, Goal 2.5, p. 1-6).

• Contribute toward the species and product output specified in the Forest Plan (Forest Plan, Appendix GG)

The need for treatment was identified when existing conditions were compared with Forest Plan desired future conditions. Based on data collected (field exam in 2003, project file), the identified red pine and white spruce plantations will either exceed or will be close to exceeding desired stocking levels within the next 10 years.

Proposed Action

The project is designed to thin approximately 10,557 acres (294 stands) of plantations across the Lakewood/Laona Ranger District of the Chequamegon-Nicolet National Forests. Most plantations consist mainly of red pine with some white spruce and lesser amounts of white pine. Limited amounts of other species may be found in some stands. The purpose of this proposal is to maintain and enhance the growth and vigor of trees within treatment areas while providing commercial timber products. All stands in the proposed action will be accessed from existing Forest roads; there will be no construction or reconstruction of roads.

Responsible Official

Anne F. Archie, Forest Supervisor, 68 S. Stevens St., Rhinelander, Wisconsin 54501 is the Responsible Official.

Nature of Decision To Be Made

The Forest Service must decide whether it will implement this proposal, an alternative design that moves the area towards the desired condition, or not implement any project at this time.

Scoping Process

In April 2003, this vegetation management project was included in the Chequanegon-Nicolet National Forests' Schedule of Proposed Actions, which was posted on the Chequanegon-Nicolet National Forests' internet website and mailed to interested parties. In June of 2004, a scoping letter for the proposed vegetation management project was mailed to 677 individuals, groups, organizations, tribes, and Federal, State, and local agencies. The scoping letter was sent to those who expressed interest in the proposal, those who owned property adjacent to the project area, and to agencies with responsibilities for local resource management. This notice of intent invites additional public comment on this proposal and initiates the preparation of the environmental impact statement. Due to the extensive scoping effects already conducted, no scoping meeting is planned. The public is encouraged to take part in the planning process and to visit with Forest Service officials at any time during the analysis and prior to the decision. While public participation is this analysis is welcome at any time, comments received within 14 days of the publication of this notice will be especially useful in the preparation of the draft environmental impact statement. The scoping process will include identification of potential issues, in depth analysis of significant issues, development of alternatives to the proposed action, and determination of potential environmental effects of the proposal and alternatives.

Preliminary Issues

Two preliminary issues have been identified for this proposal as follows: (1) Thinning and associated activities in stands along segments of the National Eligible Wild, Scenic, and Recreational (WSR) Peshtigo River and North Branch Peshtigo River could adversely affect WSR values for those segments. (2) Thinning and associated activities could have temporary adverse impacts on bird habitats.

Comment Requested

This notice of intent initiates the scoping process, which guides the development of the environmental impact statement. The public is encouraged to take part in the process and is encouraged to visit with Forest Service officials at any time during the analysis and prior to the decision. The Forest Service will be seeking information, comments and assistance from Federal, State, and local agencies and other individuals or organizations that may be interested in, or affected by, the proposed vegetation management activities.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act 15 40 CFR 1503.3 in addressing these points.

Comments received, including the names and addresses of those who comment, will be considered part of the public record on this proposal and will be available for public inspection.

(Authority: 40 CFR 1501.7 and 1508.22; Forest Service Handbook 1909.15, Section 21.)

Dated: June 18, 2004.
Anne F. Archie,
Forest Supervisor, Chequamegon-Nicolet National Forests.

[FR Doc. 04-15095 Filed 7-1-04; 8:45 am]

BILLING CODE 3410-11-M